DEPARTMENT OF ENERGY

Federal Energy Regulatory Commission

Combined Notice of Filings #1

Take notice that the Commission received the following electric rate filings:

Docket Numbers: ER18-1163-001.

Applicants: Avista Corporation.

Description: Tariff Amendment: Avista Corporation Amendment to correct e-Tariff Viewer ER18-1163 to be effective 4/1/2018.

Filed Date: 5/1/18.

Accession Number: 20180501-5366.

Comments Due: 5 p.m. ET 5/22/18.

Docket Numbers: ER18-1494-000.

Applicants: Interstate Power and Light Company.

Description: § 205(d) Rate Filing: Amendment to IPL Wholesale Formula Rate Changes to be effective 5/1/2018.

Filed Date: 5/1/18.

Accession Number: 20180501-5322.

Comments Due: 5 p.m. ET 5/22/18.

Docket Numbers: ER18-1495-000.

Applicants: PJM Interconnection, L.L.C.

Description: § 205(d) Rate Filing: First Revised ISA SA No. 2987; Queue No. AC1-073 to be effective 4/4/2018.

Filed Date: 5/1/18.

Accession Number: 20180501-5335.

Comments Due: 5 p.m. ET 5/22/18.

Docket Numbers: ER18-1496-000.

Applicants: PJM Interconnection, L.L.C.

Description: § 205(d) Rate Filing: Original ISA, SA No. 5068; Queue No. AB1-081 to be effective 4/13/2018.

Filed Date: 5/1/18.

Accession Number: 20180501-5349.

Comments Due: 5 p.m. ET 5/22/18.

Docket Numbers: ER18-1497-000.

Applicants: Tucson Electric Power Company.

Description: § 205(d) Rate Filing: Service Agreement for Network Integration Transmission Service—TRICO to be effective 5/1/2018.

Filed Date: 5/2/18.

Accession Number: 20180502-5000.

Comments Due: 5 p.m. ET 5/23/18.

Docket Numbers: ER18-1498-000.

Applicants: Entergy Arkansas, Inc.

Description: § 205(d) Rate Filing: EAI et al Unit Power Sales and Designated Power Purchase Tariff Amendment to be effective 7/1/2018.

Filed Date: 5/1/18.

Accession Number: 20180501-5368.

Comments Due: 5 p.m. ET 5/22/18.

Docket Numbers: ER18-1499-000.

Applicants: PacifiCorp.

Description: § 205(d) Rate Filing: SRP Construct Agmt for Cove Fort Meter to be effective 7/2/2018.

Filed Date: 5/1/18.

Accession Number: 20180501-5379.

Comments Due: 5 p.m. ET 5/22/18.

Docket Numbers: ER18-1500-000.

Applicants: Southwest Power Pool, Inc.

Description: § 205(d) Rate Filing: 2825R5 KMEA and Westar Energy Meter Agent Agreement to be effective 6/1/2018.

Filed Date: 5/1/18.

Accession Number: 20180501-5405.

Comments Due: 5 p.m. ET 5/22/18.

Docket Numbers: ER18-1501-000.

Applicants: Southwest Power Pool, Inc.

Description: § 205(d) Rate Filing: 2450R2 KEPCO NITSA NOA to be effective 6/1/2018.

Filed Date: 5/2/18.

Accession Number: 20180502-5038.

Comments Due: 5 p.m. ET 5/23/18.

Docket Numbers: ER18-1502-000.

Applicants: Public Service Company of Colorado.

Description: § 205(d) Rate Filing: PSCo-BLDR-T-2018-1-Spec Study-486-0.0.0 to be effective 5/3/2018.

Filed Date: 5/2/18.

Accession Number: 20180502-5039.

Comments Due: 5 p.m. ET 5/23/18.

Docket Numbers: ER18-1503-000.

Applicants: International Transmission Company.

Description: § 205(d) Rate Filing: CIAC Agreement with DTE Electric Company to be effective 7/2/2018.

Filed Date: 5/2/18.

Accession Number: 20180502-5043.

Comments Due: 5 p.m. ET 5/23/18.

Docket Numbers: ER18-1504-000.

Applicants: Southwest Power Pool, Inc.

Description: § 205(d) Rate Filing: 2451R3 KEPCO NITSA NOA to be effective 6/1/2018.

Filed Date: 5/2/18.

Accession Number: 20180502-5049.

Comments Due: 5 p.m. ET 5/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2018.
Nathaniel J. Davis, Sr.,
Deputy Secretary.

[FR Doc. 2018-09748 Filed 5-7-18; 8:45 am]

BILLING CODE 6717-01-P